DEPARTMENT OF HOUSING AND URBAN DEVELOPMENT

[FR-5641-D-02]

Order of Succession for the Office of Policy Development and Research

AGENCY: Office of the Assistant Secretary for Policy Development and Research, HUD.

ACTION: Notice of order of succession.

SUMMARY: In this notice, the Assistant Secretary for Policy Development and Research designates the Order of Succession for the Office of Assistant Secretary for Policy Development and Research. This Order of Succession supersedes all prior Orders of Succession for the Office of Policy and Development.

DATES: Effective Date: May 11, 2012.

FOR FURTHER INFORMATION CONTACT: Jean Lin Pao, General Deputy Assistant Secretary, Office of Policy Development and Research, Department of Housing and Urban Development, 451 7th Street SW., Room 8228, Washington, DC 20410-6000, telephone (202) 708-1812. (This is not a toll-free number.) Persons with hearing- or speech-impairments may access this number through TTY by calling the toll-free Federal Information Relay Service at 1-800-877-8339.

SUPPLEMENTARY INFORMATION: The Assistant Secretary for Policy Development and Research is issuing this Order of Succession of officials authorized to perform the duties and functions of the Office of the Assistant Secretary when, by reason of absence, disability, or vacancy in office, the Assistant Secretary is not available to exercise the powers or perform the duties of the Office. This Order of Succession is subject to the provisions of the Vacancy Reform Act of 1998 (5 U.S.C. 3345-3349d). This publication supersedes all prior Orders of Succession for the Office of Policy Development and Research.

Accordingly, the Assistant Secretary for Policy Development and Research designates the following Order of Succession:

Section A. Order of Succession

Subject to the provision of the Vacancy Reform Act of 1998, during any period when, by reason of absence, disability, or vacancy in office, the Assistant Secretary for Policy Development and Research is not available to exercise the powers or perform the duties of the Office of the Assistant Secretary for Policy Development and Research, the following officials within the Office of Policy Development and Research are hereby designated to exercise the powers and perform the duties of the Office, including the authority to waive regulations

(1) Deputy Assistant Secretary for Policy Development.

(2) General Deputy Assistant Secretary.

(3) Deputy Assistant Secretary for Research, Evaluation, and Monitoring.

(4) Deputy Assistant Secretary for Economic Affairs.

These officials shall perform the functions and duties of the Office in the order specified herein, and no official shall serve unless all the other officials, whose position titles precede his or hers in this order, are unable to act by reason of absence, disability, or vacancy in office. No individual who is serving in an office listed in an acting capacity shall, by virtue of so serving, act as Assistant Secretary for Policy Development and Research pursuant to this order.

Section B. Authority Superseded

This Order of Succession supersedes all prior Orders of Succession for the Office of Policy Development and Research including the Order of Succession published on August 30, 2011 (76 FR 53938).

Authority: Section 7(d) of the Department of Housing and Urban Development Act, 42 U.S.C. 3535(d).

Dated: May 11, 2012.
Raphael W. Bostic,
Assistant Secretary for Policy Development and Research.

[FR Doc. 2012-12140 Filed 5-17-12; 8:45 am]

BILLING CODE 4210-67-P